SMALL BUSINESS ADMINISTRATION

Advisory Committee on Veterans Business Affairs Public Meeting

The U.S. Small Business Administration (SBA) Advisory Committee on Veterans Business Affairs, pursuant to the Veterans Entrepreneurship and Small Business Development Act of 1999 (Pub. L. 106-50), will host a public meeting on Tuesday, February 7, 2006 until Wednesday, February 8, 2006. The meeting will be held at the U.S. Small Business Administration, 409 3rd Street SW., Washington, DC 20416. This meeting will start at 9 am until 5 pm, in the Administrator's Conference Room located on the 7th Floor, Suite 700.

Anyone wishing to attend must contact Cheryl Clark, Program Liaison, in the Office of Veterans Business Development, at (202) 205-6773, or e-mail Cheryl.Clark@sba.gov.

Matthew K. Becker,
Committee Management Officer.

[FR Doc. E6-1081 Filed 1-27-06; 8:45 am]

BILLING CODE 8025-01-P